DEPARTMENT OF TRANSPORTATION

Federal Railroad Administration

Notice of Availability of a Final General Conformity Determination for the California High-Speed Train System Merced to Fresno Section

AGENCY: Federal Railroad Administration (FRA), United States Department of Transportation (DOT).

ACTION: Notice.

SUMMARY: FRA is issuing this notice to advise the public that it issued a Final General Conformity Determination for the Merced to Fresno Section of the California High-Speed Train (HST) System on September 18, 2012. FRA is the lead Federal agency for compliance with federal environmental review requirements including the National Environmental Policy Act (NEPA) and is also the Federal agency with responsibility for complying with the Clean Air Act General Conformity requirements. The California High Speed Rail Authority (Authority), as the Project-proponent, is the lead state agency for the environmental review process for the Project. This environmental review includes completing an Environmental Impact Statement (EIS) required under NEPA and an Environmental Impact Report (EIR) in compliance with the California Environmental Quality Act (CEQA) and CEQA Guidelines.

FOR FURTHER INFORMATION CONTACT: Mr. David Valenstein, Chief, Environment and Systems Planning Division, Office of Railroad Policy and Development, Federal Railroad Administration, U.S., Department of Transportation, 1200 New Jersey Avenue SE., MS-20, Washington, DC 20590 (telephone: 202-493-6368).

SUPPLEMENTARY INFORMATION: FRA prepared a Draft General Conformity Determination pursuant to 40 CFR part 93, subpart B, which establishes the process for complying with the general conformity requirements of the Clean Air Act. Consistent with those regulations, FRA published a notice in the Federal Register on April 20, 2012 advising the public of the availability of the Draft Conformity Determination for a 30-day review and comment period. Copies of the Draft Conformity Determination were made available with the Final EIR/EIS at various locations in the Project area and were also posted to the Authority and FRA's Web sites. The comment period on the Draft Conformity Determination closed on May 29, 2012. FRA received one comment from the U.S. Environmental Protection Agency (USEPA), a response to which was included in the Final General Conformity Determination published on September 18, 2012.

The Final General Conformity Determination was developed after extensive consultation with the San Joaquin Valley Air Pollution Control District (SJVAPCD), the Authority, and the U.S. Environmental Protection Agency. The analysis found that the Project's potential emissions during the Project construction period would exceed the General Conformity de minimis threshold for two precursor criteria pollutants, nitrogen oxides (NOx) and volatile organic compounds (VOC), a precursor for ozone. However, operation of the Project (i.e., operation of the high-speed train, once the infrastructure was constructed) would result in an overall reduction of regional emissions of all applicable air pollutants and would not cause a localized exceedence of an air quality standard. Since the Project will result in the exceedence of the de minimus thresholds for the precursor criteria pollutants listed above during the construction phase, Project conformity with the applicable emission standards will be accomplished through a combination of efforts to use cleaner-than-average construction equipment and a Voluntary Emissions Reduction Agreement (VERA) between the Authority and the SJVAPCD. The VERA will offset the NOx and VOC emissions, consistent with applicable regulatory requirements, by funding (by the Project) local emissions reductions projects such as replacement and/or retrofit of existing diesel agricultural pumps, farm tractors, heavy trucks, etc. The Final General Conformity Determination is available for public review on FRA's Web site at http://www.fra.dot.gov/rpd/freight/fp_California_HST_%20Merced_to_Fresno.shtml.

Issued in Washington, DC, on October 15, 2012.
Karen J. Hedlund,
Deputy Administrator.

[FR Doc. 2012-25763 Filed 10-17-12; 8:45 am]

BILLING CODE 4910-06-P